DEPARTMENT OF THE INTERIOR

Geological Survey

Climate Change Science Program; Meeting

AGENCY: U.S. Geological Survey.

Committee Name: USGS-CCSP Committee for Synthesis and Assessment Product 3.4: Abrupt Climate Change.

ACTION: Notice of Meeting by Teleconference.

SUMMARY: The USGS-CCSP Committee for Synthesis and Assessment Product (SAP) 3.4: Abrupt Climate Change will hold a teleconference on December 21, 2007 from 12 p.m.-4 p.m. Eastern Standard Time.

Agenda: The purpose of the teleconference is to discuss the results of the peer review process for SAP 3.4. The first draft of the SAP was peer reviewed by 24 scientists with expertise tied to the subject matter of the report. Comments from the peer reviewers were collated and distributed to the chapter lead authors of the report. The chapter authors have prepared proposed responses to the peer review comments and distributed them to the full Committee for deliberation at the December 21 teleconference. The teleconference is open to the public. Pre-registration is required to attend. Contact the Designated Federal Officer (DFO) at the address below by December 17 to pre-register and to receive a copy of the peer review comments and proposed responses. The teleconference will take place in a conference room at the USGS in Reston, VA (full address below). In order to participate in the teleconference, members of the public will need to attend in person at the USGS in Reston, VA. Prepared statements may be presented orally to the Committee during the teleconference between 12 p.m. and 12:30 p.m. Public statements will be limited to 3 minutes per person. For scheduling reasons, intent to make a public statement must be established at the time of pre-registration. A written copy of the oral statement must be left with the Committee's DFO as a matter of public record. Additional short public comments/questions during the teleconference will be allowed only if time permits. Special instructions pertaining to security at USGS and directions to the conference room will be provided to those who pre-register. Please check the Synthesis and Assessment Product 3.4 Web page (http://www.usgs.gov/global_change/sap_3.4/default.asp) for any last minute changes to the teleconference date, location or agenda. The teleconference may close early if all business is completed.

FOR FURTHER INFORMATION AND TO PRE-REGISTER CONTACT: John McGeehin (DFO), U.S. Geological Survey, 12201 Sunrise Valley Drive, M.S. 926A, Reston, VA 20192, (703) 648-5349, mcgeehin@usgs.gov.

Dr. William Werkheiser,
Acting Associate Director for Geology, U.S. Geological Survey.

[FR Doc. 07-5897 Filed 11-30-07; 8:45 am]

BILLING CODE 4311-AM-M